DEPARTMENT OF THE TREASURY

Office of Thrift Supervision

[AC-45: OTS No. H-4715]

Peoples Federal Bancshares, Inc., Brighton, MA; Approval of Conversion Application

Notice is hereby given that on May 14, 2010, the Office of Thrift Supervision approved the application of Peoples Federal MHC and Peoples Federal Savings Bank, Brighton, Massachusetts, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, NJ 07311.

Dated: May 26, 2010.
By the Office of Thrift Supervision.
Sandra E. Evans,
Federal Register Liaison.

[FR Doc. 2010-13213 Filed 6-2-10; 8:45 am]

BILLING CODE 6720-01-M